ELECTION ASSISTANCE COMMISSION

Board of Advisors; Notice of Meeting

AGENCY: U.S. Election Assistance Commission.

ACTION: Notice of Public Quarterly Conference Call for EAC Board of Advisors.

DATES: Monday, November 18, 2019, 3:00-4:00 p.m. (EDT).

ADDRESSES: EAC Board of Advisers Quarterly Conference Call.

To listen and monitor the event as an attendee:

1. Go to https://zoom.us/j/9770268359?pwd=WW4wdnJMdkpJc25WZlFRZXF1UXJGUT09.

2. Enter Meeting ID: 977 026 8359, Password: EACPass1.

To join the audio conference only:

1. Call a number below and enter the meeting ID. US TOLL FREE: +1-888-788-0099 or +1-877-853-5247, Meeting ID: 977 026 8359.

FOR FURTHER INFORMATION CONTACT: Bert Benavides, Telephone: (301) 563-3937.

For assistance joining the event: Contact the host, Steve Uyak at suyak@eac.gov.

SUPPLEMENTARY INFORMATION:

Purpose: In accordance with the Federal Advisory Committee Act (FACA), Public Law 92-463, as amended (5 U.S.C. Appendix 2), the U.S. Election Assistance Commission (EAC) Board of Advisors will conduct a conference call to discuss current EAC activities.

Agenda: The Board of Advisors (BOA) will receive updates of EAC activities; Vote on distributed resolutions; Annual Meeting and BOA Committee/Sub-Committee Updates. The Board of Advisors will discuss the next Quarterly BOA Conference Call.

Members of the public may submit relevant written statements to the Board of Advisors with respect to the meeting no later than 10:00 a.m. EDT on Monday, November 18, 2019. Statements may be sent via email to facaboards@eac.gov, via standard mail addressed to the U.S. Election Assistance Commission, 1335 East West Highway, Suite 4300, Silver Spring, MD 20910, or by fax at 301-734-3108.

This conference call will be open to the public.

Nichelle S. Williams,
Director of Research, U.S. Election Assistance Commission.

[FR Doc. 2019-24416 Filed 11-7-19; 8:45 am]

BILLING CODE 6820-KF-P